Proclamation 10629 of September 22, 2023

Asian American and Native American Pacific Islander-Serving Institutions Week, 2023

By the President of the United States of America

A Proclamation

During National Asian American and Native American Pacific Islander-Serving Institutions (AANAPISIs) Week, we celebrate all the possibilities that these institutions unlock for Asian American, Native Hawaiian, and Pacific Islander (AA and NHPI) students, particularly those from low-income, first-generation, and underrepresented backgrounds. Every generation of Americans has benefited by opening the doors of opportunity to include those who have been left behind. By putting higher education within reach of AA and NHPI students, our Nation's nearly 200 AANAPISIs embody my belief that diversity is our strength as a Nation.

For so many, higher education is a ticket to a better life. But while talent, creativity, and determination are found in people all across this country, not everyone has an equal shot at higher education. AA and NHPI communities encompass more than 50 ethnicities with a variety of identities, cultures, histories, and backgrounds—many come from lower-income backgrounds, or are the first in their family to graduate college, indigenous, or recent immigrants, or have faced a legacy of discrimination in our Nation. That is why the work of our AANAPISIs is so critical for broadening the opportunity of higher education to more Americans and realizing the full potential of AA and NHPI communities.

AANAPISIs enroll nearly half of all AA and NHPI undergraduates, and they confer almost 50 percent of associate degrees and nearly 30 percent of baccalaureate degrees of all AA and NHPI students. These vital institutions empower students to earn degrees and reach their full potential while providing culturally responsive services and culturally sustaining programs that include tutoring, advising, career development and counseling, and more. With the Supreme Court's recent decision to effectively end affirmative action in college admissions, the work to make higher education accessible to all is as essential as ever. We need to keep open the doors of opportunities and ensure that the promise of America is big enough for everyone to succeed.

My Administration is committed to strengthening these critical institutions and supporting our Nation's AA and NHPI communities. Through the American Rescue Plan, we have invested $5 billion in AANAPISIs. Further, I re-established the White House Initiative on Asian Americans, Native Hawaiians, and Pacific Islanders, and I released a National Strategy to Advance Equity, Justice, and Opportunity for AA and NHPI Communities—addressing everything from combating anti-Asian hate to making Government services more accessible.

We are also fighting to make higher education more affordable for students across the country. My Administration has increased Pell Grants for low-income families by the largest amount in over a decade and fixed the Public Service Loan Forgiveness program so borrowers who become teachers, police officers, social workers, service members, and other public servants get the debt relief they are entitled to under the law. When the Supreme Court wrongly struck down our most ambitious student debt relief plan ever, we moved immediately to open an alternative path to debt relief that could further reduce costs for many AA and NHPI borrowers. My Saving on a Valuable Education (SAVE) plan will cut payments on undergraduate loans in half, bring many low-income borrowers' loan payments to $0 per month, and provide early forgiveness for borrowers with low balances.

This generation of students is the most gifted, talented, and tolerant in American history—and it is up to all of us to give them the resources and opportunity they need to reach their full potential. During Asian American and Native American Pacific Islander-Serving Institutions Week, may we recommit to supporting these institutions as they raise the next generation of AA and NHPI dreamers and doers.

NOW, THEREFORE, I, JOSEPH R. BIDEN JR., President of the United States of America, by virtue of the authority vested in me by the Constitution and the laws of the United States, do hereby proclaim September 25 through October 1, 2023, as Asian American and Native American Pacific Islander-Serving Institutions Week. I call on public officials, educators, and all the people of the United States to observe this week with appropriate programs, ceremonies, and activities that acknowledge the many ways these institutions and their graduates contribute to our country.

IN WITNESS WHEREOF, I have hereunto set my hand this twenty-second day of September, in the year of our Lord two thousand twenty-three, and of the Independence of the United States of America the two hundred and forty-eighth.

[FR Doc. 2023-21638

Filed 9-27-23; 11:15 am]

Billing code 3395-F3-P